DEPARTMENT OF COMMERCE

National Oceanic and Atmospheric Administration

RIN 0648-XV026

Pacific Fishery Management Council; Public Meeting

AGENCY: National Marine Fisheries Service (NMFS), National Oceanic and Atmospheric Administration (NOAA), Commerce.

ACTION: Notice of a public meeting (webinar).

SUMMARY: The Pacific Fishery Management Council's (Pacific Council) will convene a webinar meeting of its Groundfish Management Team (GMT) to discuss harvest specifications and other items related the team's in-person meeting scheduled for October 7-11, 2019.

DATES: A webinar meeting will be held Thursday, September 26, 2019, from 10 a.m. until 4 p.m., Pacific Daylight Time. The scheduled ending time for the GMT webinar is an estimate, the meeting will adjourn when business for the day is completed.

ADDRESSES: This meeting will be held via webinar. A public listening station is available at the Pacific Council office (address below). To attend the webinar: (1) Join the GoToWebinar by visiting this link https://www.gotomeeting.com/webinar (Click “Join a Webinar” in top right corner of page), (2) Enter the Webinar ID: 811-527-651 and (3) enter your name and email address (required). After logging into the webinar, you must use your telephone for the audio portion of the meeting. Dial this TOLL number 1-415-655-0052, enter the Attendee phone audio access code 820-357-513 and enter your audio phone pin (shown after joining the webinar). System Requirements: For PC-based attendees: Required: Windows® 10, 8, 7, Vista, or XP; for Mac®-based attendees: Required: Mac OS® X 10.5 or newer; for Mobile attendees: Required: iPhone®, iPad®, Android™ phone or Android tablet (see https://www.gotomeeting.com/webinar/ipad-iphone-android-webinar-apps). You may send an email to Mr. Kris Kleinschmidt at kris.kleinschmidt@noaa.gov or contact him at (503) 820-2411 for technical assistance.

Council address: Pacific Fishery Management Council, 7700 NE Ambassador Place, Suite 101, Portland, OR 97220.

FOR FURTHER INFORMATION CONTACT: Mr. Todd Phillips, Pacific Council; phone: (503) 820-2426.

SUPPLEMENTARY INFORMATION: The primary purpose of the GMT webinar is to discuss the development of the 2021-22 harvest specifications and management measures including rebuilding analyses. The GMT may also address other groundfish and administrative agenda items scheduled for its in-person October meeting. A detailed agenda will be available on the Pacific Council's website prior to the meeting. No management actions will be decided by the GMT.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at (503) 820-2411 at least 10 business days prior to the meeting date.

Dated: August 13, 2019.
Tracey L. Thompson,
Acting Deputy Director, Office of Sustainable Fisheries, National Marine Fisheries Service.

[FR Doc. 2019-17626 Filed 8-15-19; 8:45 am]

BILLING CODE 3510-22-P